DEPARTMENT OF COMMERCE

National Oceanic and Atmospheric Administration

XRIN 0648-XF763

Marine Mammals; Pinniped Removal Authority; Approval of Application

AGENCY: National Marine Fisheries Service (NMFS), National Oceanic and Atmospheric Administration, Commerce (NOAA).

ACTION: Notice of availability.

SUMMARY: NMFS announces the approval of an application from the state of Oregon (state) for lethal removal of individually identifiable predatory California sea lions (CSL; Zalophus californianus) in the vicinity of Willamette Falls to minimize pinniped predation on Upper Willamette River (UWR) spring-run Chinook salmon (Onchorhynchus spp.) and UWR winter steelhead, both listed as threatened under the Endangered Species Act (ESA), in the Willamette River in Oregon. This authorization is pursuant to section 120 of the Marine Mammal Protection Act (MMPA). NMFS also announces availability of decision documents and other information relied upon in making this determination.

ADDRESSES: Additional information about our determination may be obtained by visiting the NMFS West Coast Region's website: http://www.westcoast.fisheries.noaa.gov, or by writing to us at: NMFS West Coast Region, Protected Resources Division, 1201 Lloyd Blvd., Suite 1100, Portland, OR 97232.

FOR FURTHER INFORMATION CONTACT: Mr. Robert Anderson at the above address, by phone at (503) 231-2226, or by email at, robert.c.anderson@noaa.gov.

SUPPLEMENTARY INFORMATION:

Background

Section 120 of the MMPA (16 U.S.C. 1361, et seq.) allows the Secretary of Commerce, acting through the Assistant Administrator for Fisheries, and the West Coast Regional Administrator of NMFS, the discretion to authorize the intentional lethal taking of individually identifiable pinnipeds that are having a significant negative impact on salmonid fishery stocks that are either: (1) Listed under the ESA, (2) approaching a threatened or endangered status, or (3) migrate through the Ballard Locks in Seattle. The authorization applies only to pinnipeds that are not: (1) Listed under the ESA, (2) designated as depleted, or (3) designated a strategic stock.

On October 6, 2017, NMFS received an application signed by the director of the Oregon Department of Fish and Wildlife (ODFW) on the state's behalf, requesting authorization under section 120 of the MMPA to intentionally take, by lethal methods, individually identifiable predatory CSL in the vicinity of Willamette Falls, which were then having a significant negative impact on the recovery of threatened UWR spring-run Chinook salmon and UWR winter steelhead. As required under the MMPA, NMFS convened a Pinniped-Fishery Interaction Task Force (Task Force). The role of the Task Force is to recommend to NMFS approval or denial of the state's application along with recommendations of the proposed location, time, and method of such taking, criteria for evaluating the success of the action, and the duration of the intentional lethal taking authority. The Task Force must also suggest non-lethal alternatives, if available and practicable, including a recommended course of action.

Pursuant to the MMPA, NMFS determined that the state's application contained sufficient information to warrant convening the Task Force. On November 9, 2017, NMFS published a notice in the Federal Register (82 FR 52083), announcing receipt of the state's application, and soliciting public comments on the application and any additional information that NMFS should consider in making its decision. On August 20-22, 2018, NMFS convened a Task Force that was open to the public. The Task Force reviewed the state's application, public comments on the application, and other information related to CSL predation on UWR spring-run Chinook salmon and UWR winter steelhead at Willamette Falls. The Task Force completed and submitted its report to NMFS on October 15, 2018. The majority of Task Force members present at the meeting (12 of 16) recommended that NMFS approve the state's application, while 1 Task Force member recommended that NMFS deny the state's application, and 3 Task Force members abstained. All decision documents, including a copy of the authorization, are available on NMFS's West Coast Region web page (see ADDRESSES).

Findings

As required under section 7(a)(2) under the ESA, NMFS completed informal consultation, and in accordance with NEPA, NMFS completed an environmental assessment with a finding of no significant impact. In considering a state's application to lethally remove pinnipeds, NMFS is also required, pursuant to section 120(b)(1) of the MMPA, to determine that individually identifiable pinnipeds are having a significant negative impact on the decline or recovery of at-risk salmonid fishery stocks. Based on these requirements, considerations, and analyses, NMFS has determined that the requirements of section 120 of the MMPA have been met and it is therefore reasonable to issue an authorization to the state for the lethal removal of individually identifiable predatory CSL through 2023.

Dated: November 21, 2018.
Donna Wieting,
Director, Office of Protected Resources, National Marine Fisheries Service.

[FR Doc. 2018-25871 Filed 11-26-18; 8:45 am]

BILLING CODE 3510-22-P